DEPARTMENT OF TRANSPORTATION

Federal Aviation Administration

Notice of Intent To Rule on Application To Impose the Revenue From a Passenger Facility Charge (PFC) at Arcata Airport, Arcata/Eureka, CA, and Use the PFC Revenue at Arcata, Murray Field, Dinsmore, Garberville, and Kneeland Airports

AGENCY: Federal Aviation Administration (FAA), DOT.

ACTION: Notice of intent to rule on application.

SUMMARY: The FAA proposes to rule and invites public comment on the application to impose and use the revenue from a PFC at Arcata Airport, under the provisions of 49 U.S.C. 40117 and Part 158 of the Federal Aviation Regulations (14 CFR Part 158).

DATES: Comments must be received on or before May 27, 2005.

ADDRESSES: Comments on this application may be mailed or delivered in triplicate to the FAA at the following address: Federal Aviation Administration, Airports Division, 15000 Aviation Blvd., Room 3012, Lawndale, CA 90261, or San Francisco Airports District Office, 831 Mitten Road, Room 210, Burlingame, CA 94010. In addition, one copy of any comments submitted to the FAA must be mailed or delivered to Mr. Allen Campbell, Public Works Director, County of Humboldt, at the following address: 1106 Second Street, Eureka, CA 94401. Air carriers and foreign air carriers may submit copies of written comments previously provided to the County of Humboldt under section 158.23 of Part 158.

FOR FURTHER INFORMATION CONTACT: Joseph Rodriguez, Environmental Planning and Compliance Section Supervisor, San Francisco Airports District Office, 831 Mitten Road, Room 210, Burlingame, CA 94010-1303, Telephone: (650) 876-2778, extension 610. The application may be reviewed in person at this same location.

SUPPLEMENTARY INFORMATION: The FAA proposes to rule and invites public comment on the application to impose and use the revenue from a PFC at Arcata Airport under the provisions of 49 U.S.C. 40117 and Part 158 of the Federal Aviation Regulations (14 CFR Part 158).

On March 28, 2005, the FAA determined that the application to impose and use the revenue from PFC submitted by the County of Humboldt was substantially complete within the requirements of section 158.25 of Part 158. The FAA will approve or disapprove the application, in whole or in part, no later than June 24, 2005.

The following is a brief overview of the impose and use application No. 05-07-C-00-ACV:

Level of proposed PFC: $4.50.

Proposed charge effective date: September 1, 2005.

Proposed charge expiration date: August 1, 2006.

Total estimated PFC revenue: $392.265.00.

Brief description of the proposed projects; Benefit cost analysis for proposed runway 14/32 extension, security enhancements/terminal modifications, environmental assessment for the proposed runway 14/32 extension, rehabilitate runway 1/19, rehabilitate taxiways B and G, replace aircraft rescue and firefighting vehicle, and PFC Administrative costs at Arcata Airport; install wildlife fencing at Murray Field Airport; construct/improve airport drainage, and reconstruct/rehabilitate runway 9/27 at Dinsmore Airport; install perimeter fencing and gates at Garberville Airport; complete an environmental evaluation for airport drainage projects at Kneeland Airport. Class or classes of air carriers which the public agency has requested not be required to collect PFCs: Non-scheduled on-demand air carriers filing FAA Form 1800-31.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice, and other documents germane to the application in person at the County of Humboldt.

Issued in Lawndale, California, on March 28, 2005.
Mia Paredes Ratcliff,
Manager, Planning and Programming Branch, Western-Pacific Region.

[FR Doc. 05-8347 Filed 4-26-05; 8:45 am]

BILLING CODE 4910-13-M